FEDERAL HOUSING FINANCE BOARD

Sunshine Act Meeting Notice; Announcing an Open Meeting of the Board of Directors

Time and Date: The meeting of the Board of Directors is scheduled to begin at 10 a.m. on Wednesday, November 12, 2003.

Place: Board Room, Second Floor, Federal Housing Finance Board, 1777 F Street, NW., Washington, DC 20006.

Status: The entire meeting will be open to the public.

Matters to be Considered: Capital Plan Amendment for the Federal Home Loan Bank of Dallas. Consideration of an amendment to the Dallas Bank capital plan to include an identification process for shares of Class B stock that are subject to a member's stock redemption notice.

Approval of the 2004 Administrative and Non-Administrative Budget for the Financing Corporation. 12 CFR 995.6(b) requires the Finance Board to approve the budget submitted by the Financing Corporation each year.

FOR FURTHER INFORMATION CONTACT: Mary Gottlieb, Paralegal Specialist, Office of General Counsel, by telephone at 202/408-2826 or by electronic mail at gottliebm@fhfb.gov.

Dated: November 5, 2003.
By the Federal Housing Finance Board.
Arnold Intrater,
General Counsel.

[FR Doc. 03-28207 Filed 11-5-03; 12:30 pm]

BILLING CODE 6725-01-P